DEPARTMENT OF STATE

[Delegation of Authority No. 381]

Membership on the Review Committee Established by Executive Order 13567

By virtue of the authority vested in me as Secretary of State, including Section 1 of the State Department Basic Authorities Act, as amended (22 U.S.C. 2651a), and Executive Order 13567 of March 7, 2011 (the Executive Order), I hereby delegate to the Special Envoy for Guantanamo Closure the authority to serve as a member of the Review Committee described in Section 3(d) of the Executive Order for the review of file reviews only, together with any authority necessary to carry out such function.

Any act, executive order, regulation, or procedure subject to, or affected by, this delegation shall be deemed to be such act, executive order, regulation, or procedure as amended from time to time.

Notwithstanding this delegation of authority, the Secretary, the Deputy Secretary, and the Deputy Secretary for Management and Resources may at any time exercise any authority or function delegated by this delegation of authority.

This delegation of authority shall be published in the Federal Register.

Dated: January 7, 2015.
John F. Kerry,
Secretary of State.

[FR Doc. 2015-01450 Filed 1-26-15; 8:45 am]

BILLING CODE 4710-10-P